DEPARTMENT OF THE TREASURY

Internal Revenue Service

26 CFR Part 1

[REG-131997-02]

RIN 1545-BA85

Section 42 Carryover and Stacking Rule Amendments; Correction

AGENCY: Internal Revenue Service (IRS), Treasury.

ACTION: Correction to notice of proposed rulemaking and notice of public hearing.

SUMMARY: This document contains corrections to a notice of proposed rulemaking and notice of public hearing that was published in the Federal Register on Monday, July 7, 2003 (68 FR 40218), that amends several existing regulations concerning the low-income housing tax credit.

FOR FURTHER INFORMATION CONTACT: Lauren R. Taylor, (202) 622-3040, or Christopher J. Wilson, (808) 539-2874 (not a toll-free number).

SUPPLEMENTARY INFORMATION:

Background

The notice of proposed rulemaking and notice of public hearing that is the subject of this correction is under section 42 of the Internal Revenue Code.

Need for Correction

As published, the notice of proposed rulemaking and notice of public hearing contains errors that may prove to be misleading and are in need of clarification.

Correction of Publication

Accordingly, the publication of the notice of proposed regulations and notice of public hearing (REG-131997-02), that was the subject of FR Doc. 03-16941, is corrected as follows:

1. On page 40218, column 3, in the preamble under the paragraph heading ADDRESSES, third line from the bottom of the paragraph, the language “room 2615, Internal Revenue Building, ” is corrected to read “room 4718, Internal Revenue Building,”.

§ 1.42-12 [Corrected]

2. On page 40222, column 2, § 1.42-12(a)(2), second paragraph, line 4 from the bottom, the language, “before these regulations are published as” is corrected to read “before the date these regulations are published as”.

3. On page 40222, column 2, § 1.42-12(a)(3), third paragraph, last line, the language, “effect on and before these regulations” is corrected to read “effect on and before the date these regulations”.

4. On page 40223, column 2, § 1.42-14(k)(2), Example 2, paragraph (ii), line 12, the language, “Pool. The $120 in credit determined by the” is corrected to read “Pool. The $120 in credit determined by”.

5. On page 40224, column 1, § 1.42-14(l)(1), “Effective dates”, line 2, the language, “Except as provided in paragraph (l)(2), is corrected to read “Except as provided in paragraph (l)(2) of this section,”.

Cynthia E. Grigsby,
Acting Chief, Publications and Regulations Branch, Legal Processing Division, Associate Chief Counsel (Procedure and Administration).

[FR Doc. 03-22551 Filed 9-3-03; 8:45 am]

BILLING CODE 4830-01-P